DEPARTMENT OF COMMERCE

National Oceanic and Atmospheric Administration

[I.D. 021306B]

U.S. Climate Change Science Program Synthesis and Assessment Product Prospectus

AGENCY: National Oceanic and Atmospheric Administration (NOAA), Department of Commerce.

ACTION: Notice of availability and request for public comments.

SUMMARY: The National Oceanic and Atmospheric Administration publishes this notice to announce the availability of the draft Prospectus for one of the U.S. Climate Change Science Program (CCSP) Synthesis and Assessment Products (Products) for public comment. This draft Prospectus addresses the following CCSP Topic: Product 4.5 Effects of Global Change on Energy Production and Use After consideration of comments received on the draft Prospectus, the final Prospectus along with the comments received will be published on the CCSP web site.

DATES: Comments must be received by March 17, 2006.

ADDRESSES: The draft Prospectus is posted on the CCSP Program Office web site. The web address to access the draft Prospectus is: http://www.climatescience.gov/Library/sap/sap4-5/default.htm. Detailed instructions for making comments on the draft Prospectus are provided with the Prospectus. Comments should be prepared in accordance with these instructions.

FOR FURTHER INFORMATION CONTACT: Vanessa Richardson, Climate Change Science Program Office, 1717 Pennsylvania Avenue NW, Suite 250, Washington, DC 20006, Telephone: (202) 419-3465.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support evaluation of important policy issues. The Prospectus addressed by this notice provides a topical overview and describes plans for scoping, drafting, reviewing, producing, and disseminating one of 21 final synthesis and assessment Products that will be produced by the CCSP.

Dated: February 16, 2006.
James R. Mahoney,
Assistant Secretary of Commerce for Oceans and Atmosphere, Director, Climate Change Science Program.

[FR Doc. E6-2568 Filed 2-22-06; 8:45 am]

BILLING CODE 3510-12-S